DEPARTMENT OF TRANSPORTATION

Federal Aviation Administration

14 CFR Part 71

[Docket No. FAA-2005-20617; Airspace Docket No. 05-AAL-12]

RIN 2120-AA66

Establishment of Area Navigation (RNAV) Routes; AK

AGENCY: Federal Aviation Administration (FAA), DOT.

ACTION: Final rule.

SUMMARY: This action establishes a low altitude area navigation (RNAV) route T-270 in Alaska to support the Alaskan Capstone Program. The FAA is taking this action to enhance safety and improve the efficient use of the navigable airspace in Alaska.

DATES: 0901 UTC, September 1, 2005.

FOR FURTHER INFORMATION CONTACT: Ken McElroy, Airspace and Rules, Office of System Operations and Safety, Federal Aviation Administration, 800 Independence Avenue, SW., Washington,DC 20591; telephone: (202) 267-8783.

SUPPLEMENTARY INFORMATION:

History

On April 11, 2005, the FAA published in the Federal Register a notice of proposed rulemaking to establish a low altitude RNAV route in Alaska (70 FR 18335). Interested parties were invited to participate in this rulemaking effort by submitting written comments on the proposal. No comments were received.

Related Rulemaking

On April 8, 2003, the FAA published the Designation of Class A, B, C, D, and E Airspace Areas; Air Traffic Service Routes, and Reporting Points rule in the Federal Register (68 FR 16943). This rule adopted certain amendments proposed in Notice No. 02-20, Area Navigation (RNAV) and Miscellaneous Amendments. The rule adopted and revised several definitions in FAA regulations, including Air Traffic Service Routes, to be in concert with International Civil Aviation Organization definitions; and reorganized the structure of FAA regulations concerning the designation of Class A, B, C, D, and E airspace areas, airways, routes, and reporting points. The purpose of the rule was to facilitate the establishment of RNAV routes in the National Airspace System for use by aircraft with advanced navigation system capabilities.

On May 9, 2003, the FAA published the Establishment of Area Navigation Routes (RNAV) rule in the Federal Register (68 FR 24864).

The Rule

This action amends Title 14 Code of Federal Regulations (14 CFR) part 71 by establishing T-270 RNAV in Alaska within the airspace assigned to the Anchorage Air Route Control Center (ARTCC). This route was developed as part of the Capstone Program. This action will enhance safety, and facilitate the more flexible and efficient use of the navigable airspace for enroute instrument flight rules (IFR) operations within Alaska.

Low altitude RNAV routes are published in paragraph 2006 of FAA Order 7400.9M dated August 30, 2004 and effective September 16, 2004, which is incorporated by reference in 14 CFR 71.1. The low altitude RNAV route listed in this document will be published subsequently in the order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1E, Policies and Procedures for Considering Environmental Impacts. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 2006 Area Navigation Routes

* * * * * * *
T-270 OAY to SHH [New]
OAY | NDB | (lat. 64°41′46″ N., long. 162°03′46″ W.)
HEXOG | WP | (lat. 65°28′25″ N., long. 163°57′20″ W.)
SHH | NDB | (lat. 66°15′29″ N., long. 166°03′09″ W.)
* * * * * * *

Issued in Washington, DC, on June 16, 2005.
Edith V. Parish,
Acting Manager, Airspace and Rules.

[FR Doc. 05-12365 Filed 6-21-05; 8:45 am]

BILLING CODE 4910-13-P